DEPARTMENT OF THE INTERIOR

Fish and Wildlife Service

Receipt of Application for Endangered Species Permit

AGENCY: Fish and Wildlife Service, Interior.

ACTION: Notice of receipt of application for endangered species permit.

SUMMARY: The following applicants have applied for permits to conduct certain activities with endangered species. This notice is provided pursuant to Section 10(c) of the Endangered Species Act of 1973, as amended (16 U.S.C. 1531 et seq.).

DATES: Written data or comments on these applications must be received, at the address given below, by November 7, 2002.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist). Telephone: 404/679-4176; Facsimile: 404/679-7081.

FOR FURTHER INFORMATION CONTACT: Victoria Davis, Telephone: 404/679-4176; Facsimile: 404/679-7081.

SUPPLEMENTARY INFORMATION: If you wish to comment, you may submit comments by any one of several methods. You may mail comments to the Service's Regional Office (see ADDRESSES). You may also comment via the internet to “victoria_davis@fws.gov.” Please submit comments over the internet as an ASCII file avoiding the use of special characters and any form of encryption. Please also include your name and return address in your internet message. If you do not receive a confirmation from the Service that we have received your internet message, contact us directly at either telephone number listed above (see FOR FURTHER INFORMATION CONTACT). Finally, you may hand deliver comments to the Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Jeff S. Glitzenstein, South Carolina Native Plant Society, Tallahassee, Florida, TE059092-0.

The applicant requests authorization to remove and reduce to possession cuttings and seeds of Lindera melissifolia (pondberry) for the purposes of initiating colonies in the Francis Marion National Forest. The proposed activities will take place in the Francis Marion National Forest, Charleston and Berkeley Counties, South Carolina.

Applicant: United States Army Corps of Engineers Research and Development Center, Dr. Andrew C. Miller, Vicksburg, Mississippi, TE060818-0.

The applicant requests authorization to take (survey, capture, and translocate) approximately 3,000 endangered fat pocketbook mussels (Potamilus capax) from Stateline Outlet Ditch, Mississippi County, Arkansas. The applicant has requested to relocate mussels from the dredge site to other suitable sites in the river.

Applicant: United States Army Corps of Engineers Research and Development Center, Dr. Andrew C. Miller, Vicksburg, Mississippi, TE060835-0.

The applicant requests authorization to take (survey, capture, and translocate) by clamshell dredging the endangered orangefoot (pearlymussel) pimpleback (Pletobasus cooperianus) and the pink (pearlymussel) mucket (Lampsilis abrupta). Clamshell dredging is proposed as an experimental technique to minimize mussel mortality. The proposed activity will occur in the Tennessee River navigation channel near Diamond Island, Hardin County, Tennessee.

Applicant: Arkansas Tech University, Joseph N. Stoeckel, Russellville, Arkansas, TE060875-0.

The applicant requests authorization to take (survey, handle, identify, examine, release, and collect voucher specimens and relics) the fat pocketbook mussel (Potamilus capax) while conducting presence and absence surveys. The surveys will be conducted at Old Frenchman's Bayou and ditch number 1 in Mississippi and Critendon counties, Arkansas.

Applicant: Natural Resources Conservation Service, James David Ellis, Little Rock, Arkansas, TE059043-0.

The applicant requests authorization to take (survey, capture, tag, mark, and release) the American burying beetle (Nicrophorus americanus) while conducting presence and absence surveys to determine if the species is present in the South Logan Counties Water Supply project area. The proposed activities will occur in Logan and Scott Counties, Arkansas.

Applicant: Ichauway, Inc. d.b.a. Joseph W. Jones Ecological Research Center, Newton, Georgia, TE059033-0.

The applicant requests authorization to remove and reduce to possession seeds of Lindera melissifolia (pondberry) to determine the role of seed predation, longevity of seeds, and the effects of leaf litter on seed germination in order to promote sexual reproduction. The proposed activities will take place in the Francis Marion National Forest, Charleston and Berkeley Counties, South Carolina and the Delta National Forest, Sharkey County, Mississippi.

Applicant: Dr. William D. Pearson, University of Louisville, Louisville, Kentucky, TE059028-0.

The applicant requests authorization to take (survey, capture, and release) the Kentucky cave shrimp (Palaemonias ganteri) to determine presence and absence and to gather population data while conducting long term monitoring of the aquatic fauna in subterranean streams of Mammoth Cave National Park. The proposed activities will take place in Roaring River, Echo/Styx River, Mystic River, Owl cave, Eyeless Fish Trail, and Golden Triangle streams within the Mammoth Cave National Park, Edmonson County, Kentucky.

Applicant: CCR Environmental, Inc., Mr. Christian M. Crow, Atlanta, Georgia, TE059008-0.

The applicant requests authorization to take (survey, capture, and release) the fat threeridge mussel (Amblema neislerii), shinyrayed pocketbook (Lampsilis subangulata), gulf moccasinshell (Medionidus penicillatus), oval pigtoe (Pleurobema pyriforme), and purple bankclimber (Elliptoideus sloatianus) to determine the absence or presence in various streams, including bridge and roadway crossings throughout Georgia.

Applicant: Kenneth Neil Medlin, North Carolina Department of Transportation, Clayton, North Carolina, TE061055.

The applicant requests authorization to take (survey, capture, and release) the Cape Fear shiner (Notropis mekistocholas) and the spotfin chub (Cyprinella monacha) while conducting presence and absence surveys when potential transportation projects occur. The proposed activities will occur in the Cape Fear River Basin and the Tennessee River Basin, North Carolina.

Applicant: International Carnivorus Plant Society, Barry Rice, Fullerton, California, TE060992-0.

The applicant requests authorization to remove and reduce to possession seeds of Sarracenia jonesii (mountain sweet pitcher plant), Sarracenia oreophila (green pitcher plant), Sarracenia alabamensis (Alabama canebrake pitcher plant), and Pinguilcula ionantha (Godfrey's butterwort) for interstate commerce distribution in the United States.

Applicant: International Carnivorus Plant Society, Barry Rice, Fullerton, California, TE061005-0.

The applicant requests authorization to remove and reduce to possession seeds of Sarracenia jonesii (mountain sweet pitcher plant), Sarracenia oreophila (green pitcher plant), Sarracenia alabamensis (Alabama canebrake pitcher plant), and Pinguilcula ionantha (Godfrey's butterwort) interstate commerce distribution in the United States. The seeds would be germinated and grown under the expert care and when they are approximately two years old, the vigorous individuals would be sold.

Applicant: United States Army Corps of Engineers-Memphis District, David L. Reece, Memphis, Tennessee,TE061069-0.

The applicant requests authorization to take (survey, collect, and replace at point of collection) the endangered orangefoot (pearlymussel) pimpleback (Pletobasus cooperianus), pink (pearlymussel) mucket (Lampsilis abrupta), fat pocketbook mussel (Potamilus capax), Turgid-blossom pearly mussel (Epioblasma turgidula), and ring pink mussel (Obovaria retusa) while conducting presence and absence surveys. The proposed activities will occur within the boundaries of the U.S. Army Corps of Engineers-Memphis District in the following states: Arkansas, Tennessee, and Kentucky.

Applicant: Dennis R. DeVries, Auburn University, Auburn, Alabama, TE061284-0.

The applicant requests authorization to take (survey, collect, measure, count, and replace at point of collection) the endangered Tulotoma snail (Tulotoma magnifica) while conducting presence and absence surveys. The proposed activities will occur in the Coosa River drainage, Alabama.

Dated: September 18, 2002.
Christine E. Eustis,
Acting Regional Director, Region IV.

[FR Doc. 02-25513 Filed 10-7-02; 8:45 am]

BILLING CODE 4310-55-P